DEPARTMENT OF THE INTERIOR

Bureau of Land Management

[LLMTM00000 L16100000.DQ0000.LXSS048E0000 MO# 4500079299]

Notice of Availability of the HiLine District Proposed Resource Management Plan and Final Environmental Impact Statement, HiLine District, Montana

AGENCY: Bureau of Land Management, Interior.

ACTION: Notice of Availability.

SUMMARY: In accordance with the National Environmental Policy Act of 1969 (NEPA), as amended, and the Federal Land Policy and Management Act of 1976 (FLPMA), as amended, the Bureau of Land Management (BLM) has prepared a Proposed Resource Management Plan (RMP) and Final Environmental Impact Statement (EIS) for the HiLine District in Montana and by this notice is announcing its availability.

DATES: BLM planning regulations state that any person who meets the conditions as described in the regulations may protest the BLM's Proposed RMP/Final EIS. A person who meets the conditions and files a protest must file the protest within 30 days of the date that the Environmental Protection Agency publishes its notice of availability in the Federal Register.

ADDRESSES: Copies of the HiLine Proposed RMP/Final EIS have been sent to affected Federal, State, and local government agencies, tribal governments, and to other stakeholders and members of the public who have requested copies. Copies of the Proposed RMP/Final EIS are available for public inspection at the following locations:

• The BLM, Montana/Dakotas State Office, 5001 Southgate Drive, Billings, Montana 59101.

• The BLM, Havre Field Office, 3990 Highway 2 West, Havre, Montana 59501.

• The BLM, Malta Field Office, 501 South 2nd Street, Malta, Montana 59538.

• The BLM, Glasgow Field Office, 5 Lasar Drive, Glasgow, Montana 59230.

Interested persons may also review the Proposed RMP/Final EIS on the Internet at http://www.blm.gov/8qkd. All protests must be in writing and mailed to one of the following addresses: Regular Mail: BLM Director (210), Attention: Protest Coordinator, P.O. Box 71383, Washington, DC 20024-1383. Overnight Delivery: BLM Director (210), Attention: Protest Coordinator, 20 M Street SE., Room 2134LM, Washington, DC 20003.

FOR FURTHER INFORMATION CONTACT: Brian Hockett, Planning and Environmental Coordinator, telephone: 406-262-2837; address: 3990 Highway 2 West, Havre, MT 59501; email: MT_HiLine_RMP@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The planning area includes lands within the HiLine District Office's administrative boundaries in the following Montana counties: Blaine, Chouteau, Glacier, Hill, Liberty, Phillips, Toole, and Valley Counties. The Planning area includes all lands, regardless of jurisdiction, totaling approximately 17.6 million acres; however, the BLM will only make decisions on lands that fall under the BLM's jurisdiction. Lands within the Planning Area under the BLM's jurisdiction make up the Decision Area. The Decision Area consists of 2.43 million acres of public land surface and 4.24 million acres of federal mineral estate. These lands and minerals are managed by three BLM Field Offices in Havre, Malta, and Glasgow, Montana, along with the Great Falls Oil and Gas Field Office, which provides oil and gas program support in western, central, and north central Montana. The Proposed RMP will replace the current guidance provided by the West HiLine (1988) and Sweet Grass Hills Amendment (1996) and Judith-Valley-Phillips Resource Management Plans (1994) and land use plan amendments (1996). The Proposed RMP will also manage oil and gas leasing in Phillips and Valley counties, which is currently managed under four Management Framework Plans (MFP): Phillips MFP, Valley MFP, Little Rocky Mountains MFP, and the UL Bend/Zortman MFP.

The BLM published the Notice of Intent (NOI) to prepare the Malta Field Office Draft RMP/EIS in the Federal Register on September 6, 2006 (71 FR 52572). This Draft RMP/EIS included the Malta, Havre and Glasgow Montana Field Offices which currently make up the HiLine District in Montana. The HiLine Draft RMP/EIS was released to the public on March 22, 2013 (78 FR 17714). The BLM conducted five public meetings regarding the HiLine Draft RMP/EIS. These meetings were held in Glasgow, Malta, Havre, Chester and Great Falls, Montana during May 2013. The Draft RMP/EIS included a series of management actions, within five management alternatives, designed to address management challenges and issues raised during scoping. These included, but were not limited to, renewable and traditional energy development, management of solid minerals, soil and vegetation management, land tenure, public land access, off-highway vehicles, lands with wilderness characteristics, wildlife habitat and special status species, including Greater Sage-Grouse, cultural and paleontological resources, special designations and management areas including areas of critical environmental concern (ACEC), wildfire and prescribed fire management, and social and economic conditions across the HiLine District. Cooperating agencies assisted the BLM in the identification and refinement of the issues and the development of the alternatives.

Comments on the HiLine Draft RMP/EIS received from the public and internal BLM review were considered and incorporated as appropriate into the Proposed RMP/Final EIS which analyzes five alternatives:

1. Alternative A (No Action): Continues existing management;

2. Alternative B: Emphasizes conservation of natural and cultural resources while providing for compatible development and use;

3. Alternative C: Provides development opportunities while protecting sensitive resources;

4. Alternative D: Emphasizes resource development and use while protecting natural and cultural resources; and

5. Alternative E (Proposed): Focuses on a balance between managing public lands for economic and recreational growth and protecting valuable resources.

The HiLine District has identified Alternative E as the Proposed RMP. Alternative E supports management of greater sage-grouse seasonal habitats and maintaining habitat connectivity to achieve population objectives.

In accordance with 43 CFR 1610.7-2(b), the Notice of Availability for the Draft RMP/EIS also announced a concurrent public comment period on nominated ACECs. The Proposed RMP/Final EIS, Alternative E, includes ACEC designation for the following areas (all resource use limitations are subject to valid existing rights).

Azure Cave ACEC (141 Acres)

• Relevant and Important Values: Wildlife habitat, natural hazards.

• Limitations on the Following Uses: Solid mineral leasing, mineral material sales, commercial wind energy development.

• Other Restrictions: Avoidance area for rights-of-way (ROWs).

Big Bend of the Milk River ACEC (1,972 Acres)

• Relevant and Important Values: Cultural, historic.

• Limitations on the Following Uses: Oil and gas leasing, mineral material sales, commercial wind energy development.

• Other Restrictions: Avoidance area for ROWs.

Bitter Creek ACEC (60,701 Acres)

• Relevant and Important Values: Historic, cultural, scenic, wildlife habitat, natural processes.

• Limitations on the Following Uses: oil and gas leasing, commercial wind energy development.

• Other Restrictions: avoidance area for ROWs.

Kevin Rim ACEC (4,557 Acres)

• Relevant and Important Values: cultural, wildlife habitat.

• Limitations on the Following Uses: oil and gas leasing, solid mineral leasing, mineral material sales, commercial wind energy development.

• Other Restrictions: avoidance area for ROWs.

Mountain Plover ACEC (24,762 Acres)

• Relevant and Important Values: wildlife habitat.

• Limitations on the Following Uses: oil and gas leasing, solid mineral leasing, mineral material sales, commercial wind energy development.

• Other Restrictions: avoidance area for ROWs.

Sweet Grass Hills ACEC (7,419 Acres)

• Relevant and Important Values: historic, cultural.

• Limitations on the Following Uses: oil and gas leasing, solid mineral leasing, mineral material sales, commercial wind energy development.

• Other Restrictions: avoidance area for ROWs.

Frenchman Breaks ACEC (42,020 Acres)

• Relevant and Important Values: scenic, wildlife habitat, natural processes.

• Limitations on the Following Uses: oil and gas leasing, solid mineral leasing, mineral material sales, commercial wind energy development.

• Other Restrictions: avoidance area for ROWs.

Malta Geological ACEC (6,153 Acres)

• Relevant and Important Values: geologic, paleontological, natural processes.

• Limitations on the Following Uses: oil and gas leasing, solid mineral leasing, mineral material sales, commercial wind energy development.

• Other Restrictions: avoidance area for ROWs; personal collection of common fossils would not be allowed.

Woody Island ACEC (32,869 Acres)

• Relevant and Important Values: scenic, wildlife habitat.

• Limitations on the Following Uses: oil and gas leasing, solid mineral leasing, mineral material sales, commercial wind energy development.

• Other Restrictions: avoidance area for ROWs.

Zortman/Landusky Mine Reclamation ACEC (2,682 Acres)

• Relevant and Important Values: natural hazards, public safety.

• Limitations on the Following Uses: commercial wind energy development.

• Other Restrictions: avoidance area for ROWs, closed to all unauthorized vehicle use during reclamation activities.

Two areas are being considered for designation as off-highway vehicle (OHV) use areas. In the Proposed RMP, 40 acres in the Glasgow OHV area would remain open until an alternate site is located, and in the Fresno OHV area 125 acres would be designated as open to OHV use.

The Hiline District Proposed RMP/Final EIS is one of a total of 15 separate EISs that make up the BLM and Forest Service National Greater Sage-Grouse Planning Strategy. Greater-Sage Grouse habitat within the planning area consists of:

• Priority Habitat Management Area (PHMA)—Areas identified as having the highest conservation value for maintaining sustainable Greater Sage-Grouse populations; include breeding, late brood-rearing, and winter concentration areas.

• General Habitat Management Area (GHMA)—Areas of seasonal or year-round habitat outside of PHMA.

Alternative E identifies 1,006,312 acres as Greater Sage-Grouse PHMAs and 426,355 acres as Grassland Bird/Greater Sage-Grouse PHMAs. The latter areas have special management prescriptions to provide high-quality habitat for Greater Sage-Grouse and other sagebrush-dependent species. These PHMAs would be closed to solid mineral leasing, and oil and gas leasing would be subject to a no surface occupancy (NSO) and use stipulation with only limited exceptions, and no waivers or modifications. Both areas would be designated as exclusion areas for wind and solar energy ROWs, and avoidance areas for all other ROWs.

The BLM and Forest Service, via the Western Association of Fish and Wildlife Agencies (WAFWA) Management Zone Greater Sage-Grouse Conservation Team, will develop a Regional Mitigation Strategy to guide the application of the mitigation hierarchy to address impacts within that Zone. The Regional Mitigation Strategy should consider any State-level greater sage-grouse mitigation guidance that is consistent with the requirements. The Regional Mitigation Strategy will be developed in a transparent manner, based on the best science available and standardized metrics.

Instructions for filing a protest with the Director of the BLM regarding the Proposed RMP/Final EIS may be found in the “Dear Reader” Letter of the HiLine Proposed RMP/Final EIS and at 43 CFR 1610.5-2. All protests must be in writing and mailed to the appropriate address, as set forth in the ADDRESSES section above. Emailed protests will not be accepted as valid protests unless the protesting party also provides the original letter by either regular or overnight mail postmarked by the close of the protest period. Under these conditions, the BLM will consider the emailed protest as an advance copy and it will receive full consideration. If you wish to provide the BLM with such advance notification, please direct emails to protest@blm.gov.

Before including your address, phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2, 43 CFR 1610.5.

Jamie E. Connell,
State Director, Montana/Dakotas.

[FR Doc. 2015-12999 Filed 5-28-15; 8:45 am]

BILLING CODE 4310-DN-P